DEPARTMENT OF TRANSPORTATION

Surface Transportation Board

[STB Finance Docket No. 33959]

Ballard Terminal Railroad Company, L.L.C. d/b/a Meeker Southern Railroad—Acquisition and Operation Exemption—The Burlington Northern and Santa Fe Railway Company

Ballard Terminal Railroad Company, L.L.C. (BTRC), a limited liability company doing business as Meeker Southern Railroad,¹ has filed a verified notice of exemption under 49 CFR 1150.41 to acquire from The Burlington Northern and Santa Fe Railway Company (BNSF) and operate BNSF's Meeker-McMillin Rail Line located between Meeker, milepost 32.82, and McMillin, milepost 28.34, in Pierce County, WA, a distance of approximately 4.5 miles (line).

¹ BTRC is an existing carrier currently operating in Seattle, WA. See Ballard Terminal Railroad Company, L.L.C.—Modified Rail Certificate, STB Finance Docket No. 33594 (STB served Feb. 26, 1999).

The parties report that they intend to close the transaction on or after the later of November 13, 2000, or seven days from date of filing of this notice with the Board. The earliest the transaction can be consummated is November 10, 2000, the effective date of the exemption (7 days after the exemption was filed).²

² After consummation of the transaction in STB Finance Docket No. 33959, the line will be referred to as the Meeker Southern Railroad line.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33959, must be filed with the Surface Transportation Board, Office of the Secretary, Case Control Unit, 1925 K Street, N.W., Washington, DC 20423-0001. In addition, a copy of each pleading must be served on Stephen L. Day, Esq., Betts, Patterson & Mines, P.S., 1215 4th Avenue, Suite 800, Seattle, WA 98161-1090.

Board decisions and notices are available on our website at WWW.STB.DOT.GOV.

Decided: November 7, 2000.
By the Board, David M. Konschnik, Director, Office of Proceedings.
Vernon A. Williams,
Secretary.

[FR Doc. 00-29077 Filed 11-14-00; 8:45 am]

BILLING CODE 4915-00-P